NATIONAL AERONAUTICS AND SPACE ADMINISTRATION

[Notice (04-049)]

Notice of prospective patent license

AGENCY: National Aeronautics and Space Administration.

ACTION: Notice of prospective patent license.

SUMMARY: NASA hereby gives notice that UBE America, Inc., of 55 East 59th Street, 18th Floor, New York, NY 10022, has applied for an exclusive license to practice the invention described in NASA Case Nos. LAR 15834-1-CA, LAR 15834-1-EP, LAR 15834-1-JP, and LAR 15834-1-MX, all of which are entitled “Composition Of And Method For Making High Performance Resins For Infusion And Transfer Molding Processes,” which are assigned to the United States of America as represented by the Administrator of the National Aeronautics and Space Administration. Written objections to the prospective grant of a license should be sent to NASA Langley Research Center. NASA has not yet made a determination to grant the requested license and may deny the requested license even if no objections are submitted within the comment period.

DATES: Responses to this notice must be received by April 29, 2004.

FOR FURTHER INFORMATION CONTACT: Robin W. Edwards, Patent Attorney, Mail Stop 212, NASA Langley Research Center, Hampton, VA 23681-2199, telephone (757) 864-3230; fax (757) 864-9190.

Dated: April 8, 2004.
Keith T. Sefton,
Chief of Staff, Office of the General Counsel.

[FR Doc. 04-8391 Filed 4-13-04; 8:45 am]

BILLING CODE 7510-01-P